DEPARTMENT OF THE TREASURY

Internal Revenue Service

26 CFR Parts 1 and 31

[REG-130074-11]

RIN 1545-BK54

Rules Relating to Additional Medicare Tax

Correction

In proposed rule document 2012-29237, appearing on pages 72268-72277 in the issue of Wednesday, December 5, 2012, make the following correction:

§ 31.6205-1 Adjustments of Underpayments. [Corrected]

On page 72276, in the second column, in the middle of the column, immediately below “6. Adding a new paragraph (c).”, “The revisions and additions read as follows:” should appear.

[FR Doc. C1-2012-29237 Filed 1-29-13; 8:45 am]

BILLING CODE 1505-01-D